DEPARTMENT OF STATE

[Public Notice 3963]

Shipping Coordinating Committee; Notice of Meeting

The Shipping Coordinating Committee (SHC) will conduct an open meeting at 9:30 a.m. on Thursday, June 13, 2002 in Room 6103 of the U.S. Coast Guard Headquarters, 2100 Second Street, SW., Washington, DC 20593-0001. The primary purpose of the meeting is to prepare for the Seventh Session of International Maritime Organization (IMO) the Sub-Committee on Bulk Liquids and Gases to be held at the IMO Headquarters in London, England from June 24, 2002 to June 28, 2002.

The primary matters to be considered include:

— Matters related to the probabilistic methodology for oil outflow analysis

—Review of Annex I of International Convention for the Prevention of Pollution From Ships (MARPOL 73/78)

—Review of Annex II of MARPOL 73/78

—Evaluation of safety and pollution hazards of chemicals and preparation of consequential amendments

—Amendments to requirements on electrical installations in the International Bulk Chemical and the International Gas Carrier Codes

—Application of MARPOL requirements to Floating Production, Storage and Offloading/Floating Storage Units (FPSOs and FSUs)

—Requirements for personnel protection involved in the transportation of cargoes containing toxic substances in all types of tankers

—Oil tagging systems

—Development of guidelines for ships operating in Arctic ice-covered waters

Members of the public may attend the meeting up to the seating capacity of the room. Interested persons may seek information by writing: Commander J. M. Michalowski, U.S. Coast Guard (G-MSO-3), Room 1214; 2100 Second Street, SW., Washington, DC 20593-0001 or by calling (202) 267-1217.

Dated: April 10, 2002.
Stephen Miller,
Executive Secretary, Shipping Coordinating Committee, Department of State.

[FR Doc. 02-10330 Filed 4-25-02; 8:45 am]

BILLING CODE 4710-07-P